SOCIAL SECURITY ADMINISTRATION

20 CFR Part 404

[Docket No. SSA-2007-0101]

RIN 0960-AF69

Revised Medical Criteria for Evaluating Mental Disorders; Correction

AGENCY: Social Security Administration.

ACTION: Final rules; correction.

SUMMARY: We published a document in the Federal Register revising our rules on September 26, 2016. That document inadvertently included incorrect amendatory instructions to appendix 1 to subpart P of 20 CFR part 404, removing section 114.00I and redesignating section 114.00J as section 114.00I. This document corrects the final regulation by removing that amendatory instruction.

DATES: These rules are effective January 17, 2017.

FOR FURTHER INFORMATION CONTACT: Cheryl A. Williams, Office of Medical Policy, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: We published a final rule in the Federal Register of September 26, 2016 (81 FR 66137) titled, Revised Medical Criteria for Evaluating Mental Disorders. The final rule, among other things, amended 20 CFR part 404. We inadvertently included an amendatory instruction to appendix 1 to subpart P of 20 CFR part 404, removing section 114.00I and redesignating section 114.00J as section 114.00I. This document amends and corrects the final regulation.

(Catalog of Federal Domestic Assistance Program Nos. 96.001, Social Security—Disability Insurance; 96.002, Social Security—Retirement Insurance; 96.004, Social Security—Survivors Insurance; and 96.006, Supplemental Security Income).

In FR Doc. 2016-22908 appearing on page 66138 in the Federal Register of Monday, September 26, 2016, the following corrections are made:

Appendix 1 to Subpart P of Part 404 [Corrected]

1. On page 66161, in the first column, in appendix 1 to subpart P of part 404, correct amendatory instruction 3 by removing instruction 3.c.iii, and redesignating instructions 3.c.iv. though 3.c.xvi. as instructions 3.c.iii. through 3.c.xv. respectively.

Carolyn W. Colvin,
Acting Commissioner of Social Security.

[FR Doc. 2016-28845 Filed 12-1-16; 8:45 am]

BILLING CODE 4191-02-P